DEPARTMENT OF ENERGY

Federal Energy Regulatory Commission

[Project Nos. 20-065]

PacifiCorp; Notice of Availability of Environment Assessment

May 23, 2006.

In accordance with the National Environmental Policy Act of 1969 and the Federal Energy Regulatory Commission's regulations, the Office of Energy Projects has reviewed the application requesting the Commission's authorization to remove its Cove development and reduce the minimum flow required in the bypassed reach of the Grace development. The project is located on the Bear River in Caribou and Franklin Counties, Idaho. An environmental assessment (EA) has been prepared.

In the EA, the Commission's staff concludes that approval of the licensee's application, with adoption of staff's recommendations, would not constitute a major Federal action significantly affecting the quality of the human environment.

A copy of the EA is attached to a Commission order titled “Order Amending License and Revising Annual Charges”, issued May 23, 2006, and is available at the Commission's Public Reference Room. A copy of the EA may also be viewed on the Commission's Web site at http://www.ferc.gov using the “elibrary” link. Enter the docket number (P-20) in the docket field to access the document. For assistance, call (202) 502-8222 or (202) 502-8659 (for TTY).

Magalie R. Salas,
Secretary.

[FR Doc. E6-8328 Filed 5-30-06; 8:45 am]

BILLING CODE 6717-01-P